DEPARTMENT OF TRANSPORTATION

Coast Guard

[USCG-2001-11138]

International Maritime Security Initiative

AGENCY: Coast Guard, DOT.

ACTION: Notice of public meeting; request for comments.

SUMMARY: The Coast Guard announces a public meeting on January 3, 2002 to discuss a proposed United States submission to the Maritime Safety Committee (MSC) of the International Maritime Organization (IMO) on maritime security.

DATES: This meeting will be held on January 3, 2002, from 9 a.m. to 5 p.m. Comments and related material must reach the Docket Management Facility on or before February 7, 2001.

ADDRESSES: The public meeting will be held in Room 2415 at U.S. Coast Guard Headquarters, 2100 Second St. SW., Washington, DC 20593.

To make sure your comments and related material may be considered if you are unable to attend, please submit them by only one of the following means:

(1) By mail to the Docket Management Facility [USCG-2001-11138], U.S. Department of Transportation, room PL-401, 400 Seventh Street SW., Washington, DC 20590-0001.

(2) By hand delivery to room PL-401, 400 Seventh Street SW., Washington, DC 20590-0001, between 9 a.m. and 5 p.m., Monday through Friday, except Federal holidays. The telephone number is 202-267-1492.

(3) By fax to the Docket Management Facility at 202-493-2251.

(4) Electronically through the Web Site for the Docket Management System at http://dms.dot.gov.

The Docket Management Facility maintains the public docket for this public meeting. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this notice or general information regarding the meeting, contact Martin L. Jackson, Office of Standards Evaluation and Development, (G-MSR-2), U.S. Coast Guard Headquarters, telephone 202-267-6826, fax 202-267-4547 or E-mail mjackson@comdt.uscg.mil. If you have questions on viewing or submitting material to the docket, call Dorothy Beard, Chief, Dockets, Department of Transportation, telephone 202-366-5149.

SUPPLEMENTARY INFORMATION:

Request for Comments

This notice announces a public meeting where the U.S. Coast Guard is soliciting comments from the public on measures that should be included in a U.S. submission to IMO on maritime security. We encourage you to participate by submitting comments and related material. If you do so, please include your name and address, identify this docket (USCG-2001-11138), and indicate the specific concerns and reasons for each comment. You may submit your comments and materials by mail or hand delivery. Submit them in an unbound format, no larger than 8½ × 11 inches, suitable for copying and electronic filing to the DOT Docket Management Facility at the address under ADDRESSES. If you submit them by mail and would like confirmation of receipt, please enclose a stamped, self-addressed postcard or envelope. Comments and material should be received prior to February 7, 2002.

Public Meeting

The Coast Guard will hold a public meeting regarding international maritime security initiatives on Thursday, January 3, 2002 from 9 a.m. to 5 p.m. The meeting will be held at the address under ADDRESSES.

Background

At the recently concluded (November 19-29, 2001) 22nd Session of the International Maritime Organization (IMO) Assembly, the Secretary General of IMO proposed a resolution on review of measures and procedures to prevent acts of terrorism which threaten the security of passengers and crews and the safety of ships (Resolution A.924(22)), which was adopted by the Assembly. In view of the importance of the matter, the Assembly further agreed to convene an international conference on maritime security in December 2002, with a view towards adopting maritime security related amendments to the International Convention on the Safety of Life at Sea (SOLAS). Proposals to be considered at this conference will first be considered at the 75th session of the Maritime Safety Committee (MSC) during May 2002.

To adequately prepare for the upcoming MSC session in May 2002, the Assembly has agreed to convene an MSC intersessional working group meeting on February 11-15, 2002 at IMO. The United States Coast Guard is preparing a paper to present at this working group meeting.

This notice announces a public meeting where the U.S. Coast Guard is soliciting comments from the public on measures that should be included in a U.S. submission to IMO on maritime security. We will place the draft on the docket for this notice as soon as it is available.

The Coast Guard is also scheduling a public workshop to discuss security procedures, programs, and capabilities within marine transportation systems. The public workshop is a separate meeting from this public meeting and a separate notice will be published in the Federal Register.

Information on Service for Individuals With Disabilities

For information on facilities or services for individuals with disabilities or to request special assistance at the public meeting, contact Martin Jackson at the phone number under FOR FURTHER INFORMATION CONTACT.

Dated: December 10, 2001.
Joseph J. Angelo,
Director of Standards, Marine Safety and Environmental Protection.

[FR Doc. 01-30910 Filed 12-13-01; 8:45 am]

BILLING CODE 4910-15-P